NATIONAL SCIENCE FOUNDATION

Membership of National Science Foundation's Senior Executive Service Performance Review Board

AGENCY: National Science Foundation.

ACTION: Announcement of Membership of the National Science Foundation's Senior Executive Service Performance Review Board.

SUMMARY: This announcement of the membership of the National Science Foundation's Senior Executive Service Performance Review Board is made in compliance with 5 U.S.C. 4314(c)(4).

ADDRESSES: Comments should be addressed to Division Director, Division of Human Resource Management, National Science Foundation, Room 315, 4201 Wilson Boulevard, Arlington, VA 22230.

FOR FURTHER INFORMATION CONTACT: Dr. Judith S. Sunley at the above address or (703) 292-8180.

SUPPLEMENTARY INFORMATION: The membership of the National Science Foundation's Senior Executive Service Performance Review Board is as follows:

Richard Buckius, Chief Operating Officer, Chairperson

Dorothy Aronson, Division Director, Division of Information Systems

Suzanne C. Iacono, Deputy Assistant Director, Directorate for Computer and Information Science and Engineering

Sylvia M. James, Division Director, Division of Human Resource Development

Denise Caldwell, Division Director, Division of Physics

Brian W. Stone, Head, Section for Antarctic Infrastructure and Logistics

Joanne Tornow, Head, Office of Information and Resource Management and Chief Human Capital Officer

Judith S. Sunley, Division Director, Division of Human Resource Management and PRB Executive Secretary

Dated: October 2, 2015.
Judith S. Sunley,
Division Director, Division of Human Resource Management.

[FR Doc. 2015-25721 Filed 10-9-15; 8:45 am]

BILLING CODE 7555-01-P